NUCLEAR REGULATORY COMMISSION

[NRC-2011-0045]

Leakage Tests on Packages for Shipment of Radioactive Material

AGENCY: Nuclear Regulatory Commission.

ACTION: Regulatory guide; issuance.

SUMMARY: The U.S. Nuclear Regulatory Commission (NRC or Commission) is issuing a revision to Regulatory Guide 7.4, “Leakage Tests on Packages for Radioactive Material.”

ADDRESSES: You can access publicly available documents related to this regulatory guide using the following methods:

• NRC's Public Document Room (PDR): The public may view on line for free or have printed for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by email to pdr.resource@nrc.gov. The regulatory guide is available electronically under ADAMS Accession Number ML112520023. The regulatory analysis may be found in ADAMS under Accession Number ML112520027.

• Federal Rulemaking Web Site: Public comments and supporting materials related to this notice can be found at http://www.regulations.gov by searching on Docket ID NRC-2011-0045.

Regulatory guides are not copyrighted, and NRC approval is not required to reproduce them.

FOR FURTHER INFORMATION CONTACT: Bernard White, Office of Nuclear Material Safety and Safeguards, U.S. Nuclear Regulatory Commission, Washington, DC 20555-0001, telephone: 301-492-3303 or email: Bernard.White@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

This revision to Regulatory Guide 7.4 provides licensees and applicants with a method the NRC considers acceptable for meeting the containment criteria for Type B packages described in 10 CFR 71.51, “Additional Requirements for Type B Packages.” The revised regulatory guide endorses the methods and procedures described in ANSI Standard N14.5-1997, “Radioactive Materials—Leakage Tests on Packages for Shipment” approved February 1998.

The NRC staff developed and published this guidance to provide licensees and applicants with an acceptable method to satisfy the requirements in 10 CFR part 71 and part 20 for transferring, shipping, and receiving radioactive material.

II. Further Information

Revision 1 of Regulatory Guide 7.4 was issued with a temporary identification as Draft Regulatory Guide, DG-7008. Draft Regulatory Guide, DG-7008, was published in the Federal Register on March 1, 2011 (76 FR 11288) for a 60 days public comment period. The public comment period closed on April 26, 2011. The NRC staff's responses to the public comments on DG-7008 are available under ADAMS Accession Number ML112520028.

Dated at Rockville, Maryland, this 1st day of March, 2012.
For the Nuclear Regulatory Commission.
Thomas H. Boyce,
Chief, Regulatory Guide Development Branch, Division of Engineering, Office of Nuclear Regulatory Research.

[FR Doc. 2012-5751 Filed 3-8-12; 8:45 am]

BILLING CODE 7590-01-P